DEPARTMENT OF AGRICULTURE

Animal and Plant Health Inspection Service

[Docket No. APHIS-2007-0137]

Notice of Request for Approval of an Information Collection; Phytophthora Ramorum Surveys and Data Collection Form

AGENCY: Animal and Plant Health Inspection Service, USDA.

ACTION: Approval of an information collection; comment request.

SUMMARY: In accordance with the Paperwork Reduction Act of 1995, this notice announces the Animal and Plant Health Inspection Service's intention to request approval of new information collection activities associated with a program to prevent the spread of Phytophthora ramorum to noninfested areas of the United States.

DATES: We will consider all comments that we receive on or before February 8, 2008.

ADDRESSES: You may submit comments by either of the following methods:

• Federal eRulemaking Portal: Go to http://www.regulations.gov, select “Animal and Plant Health Inspection Service” from the agency drop-down menu, then click “Submit.” In the Docket ID column, select APHIS-2007-0137 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2007-0137, Regulatory Analysis and Development, PPD, APHIS, Station 3A-03.8, 4700 River Road Unit 118, Riverdale, MD 20737-1238. Please state that your comment refers to Docket No. APHIS-2007-0137.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Phytophthora ramorum program, contact Mr. Jonathan Jones, National Phytophthora ramorum Program Manager, Pest Detection and Management Programs, PPQ, APHIS, 4700 River Road Unit 160, Riverdale, MD 20737; (301) 734-8247. For copies of more detailed information on the information collection, contact Mrs. Celeste Sickles, APHIS' Information Collection Coordinator, at (301) 734-7477.

SUPPLEMENTARY INFORMATION: Title: Phytophthora ramorum Surveys and Data Collection Form.

OMB Number: 0579-xxxx.

Type of Request: Approval of an information collection.

Abstract: As authorized by the Plant Protection Act (PPA) (7 U.S.C. 7701 et seq.), the Secretary of Agriculture may prohibit or restrict the importation, entry, exportation, or movement in interstate commerce of any plant, plant product, biological control organism, noxious weed, means of conveyance, or other article if the Secretary determines that the prohibition or restriction is necessary to prevent a plant pest or noxious weed from being introduced into or disseminated within the United States. This authority has been delegated to the Animal and Plant Health Inspection Service (APHIS), which conducts various regulatory programs under the PPA.

One such program concerns a plant disease known as sudden oak death (SOD), ramorum leaf blight or ramorum dieback, which is caused by the pathogen Phytophthora ramorum. Beginning in 1995, oak and tanoak plants in coastal counties of California were found to be dying from this disease. Since then, other types of plants also have been found to be infected or associated with this disease, and the pathogen has been confirmed in additional areas.

APHIS continues to define the extent of the pathogen's distribution in the United States and to limit its artificial spread beyond infected areas through quarantine and regulations and a public education program. As part of these efforts, APHIS has developed questionnaires for property owners or managers at sites where infected plants are found and where we are surveying for the presence of possible infected plants. The questionnaires are intended to gather information that will help determine the possible sources of infection. APHIS has also developed a data collection form that will be used to record information about locations found to have infected plants. This data will assist the Agency in determining how the pathogen is spreading.

We are asking the Office of Management and Budget (OMB) to approve our use of these information collection activities for 3 years.

The purpose of this notice is to solicit comments from the public (as well as affected agencies) concerning this information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.25 hours per response.

Respondents: Property owners or managers at sites where infected plants are found.

Estimated annual number of respondents: 166.

Estimated annual number of responses per respondent: 18.

Estimated annual number of responses: 2,922.

Estimated total annual burden on respondents: 733 hours. (Due to averaging, the total annual burden hours may not equal the product of the annual number of responses multiplied by the reporting burden per response.)

All responses to this notice will be summarized and included in the request for OMB approval. All comments will also become a matter of public record.

Done in Washington, DC, this 4th day of December 2007.
Kevin Shea,
Acting Administrator, Animal and Plant Health Inspection Service.

[FR Doc. E7-23881 Filed 12-7-07; 8:45 am]

BILLING CODE 3410-34-P